DEPARTMENT OF THE TREASURY

Community Development Financial Institutions Fund

Notice of Funds Availability (NOFA) Inviting Applications for the Native American CDFI Assistance Program (NACA Program) for the Fiscal Year (FY) 2014 Funding Round

Announcement Type: Announcement of funding opportunity.

Catalog of Federal Domestic Assistance (CFDA) Number: 21.020.

DATES: Applications for Financial Assistance (FA) or Technical Assistance (TA) awards through the FY 2014 Funding Round of the NACA Program must be received by 11:59 p.m., Eastern Time (ET), December 23, 2013.

Executive Summary: Subject to funding availability, this NOFA is issued in connection with the FY 2014 Funding Round of the NACA Program, which the Community Development Financial Institutions Fund (CDFI Fund) administers.

I. Funding Opportunity Description

A. Award Requirements: The CDFI Fund makes FA awards and TA grants through the NACA Program to entities that meet the requirements set forth in this NOFA. FA awards will be made to Certified Community Development Financial Institutions (CDFIs) serving Native Communities that complete and submit the Application and meet the FA requirements set forth in this NOFA, the Application and the Regulations; TA grants will be made to Certified, Certifiable and Emerging CDFIs serving Native Communities and Sponsoring Entities that complete and submit the Application and meet the TA requirements set forth in this NOFA, the Application and the Regulations. Through the FY 2014 Funding Round, the CDFI Fund will also make FA awards for Healthy Food Financing Initiative (HFFI-FA) activities to Certified CDFIs serving Native Communities that complete and submit the Application and meet the HFFI-FA requirements set forth in the NOFA, the Application and the Regulations. NACA Applicants that are interested in applying for HFFI-FA can find additional details about that program in the FY 2014 Community Development Financial Institutions Program (CDFI Program) NOFA. For purposes of this NOFA, the term “Native Community” means a Native American, Alaska Native, or Native Hawaiian population, land or Census-equivalent entity (as defined by the Bureau of the Census). In addition, Native Community includes a Native Other Targeted Population as described in Table 3 of this NOFA for Native Americans or American Indians, including Alaska Natives living in Alaska and Native Hawaiians living in Hawaii.

B. Program Regulations: The regulations governing the NACA Program are found at 12 CFR Parts 1805 and 1815 (the Regulations) and provide guidance on evaluation criteria and other requirements. Details regarding Application content requirements are found in the Application and related materials. Capitalized terms are defined in this NOFA, the Regulations, or the Application. The CDFI Fund encourages Applicants to review the Regulations in addition to this NOFA.

C. The CDFI Fund reserves the right to fund, in whole or in part, any, all, or none of the Applications submitted in response to this NOFA. The CDFI Fund also reserves the right to reallocate funds from the amount that is anticipated to be available through this NOFA to other CDFI Fund programs, particularly if the CDFI Fund determines that the number of awards made through this NOFA is fewer than projected.

D. Coordination with Broader Community Development Strategies: Consistent with Federal efforts to promote community revitalization, it is important for communities to develop a comprehensive neighborhood revitalization strategy that addresses neighborhood assets essential to transforming distressed neighborhoods into healthy and vibrant communities. Neighborhood transformation can best occur when comprehensive neighborhood revitalization plans embrace the coordinated use of programs and resources that address the interrelated needs within a community. Although not a requirement for participating in the NACA Program, the Federal government believes that a CDFI will be most successful when it is part of, and contributes to, an area's broader neighborhood revitalization strategy.

II. Award Information

A. Funding Availability

1. FY 2014 Funding Round: Subject to funding availability, the CDFI Fund expects to award, through this NOFA, approximately $12 million in NACA awards for FA and TA Applicants.

In the recent past, Congress mandated that at least ten percent of the CDFI Program's appropriations be directed to counties that meet certain criteria for “persistent poverty.” This requirement continues under this NOFA. As a result, the CDFI Fund invites Applicants to indicate their level of participation in persistent poverty counties in their FY 2014 applications. The CDFI Fund reserves the right to award more or less than the amount cited above in the FY 2014 Funding Round, based upon available funding and other applicable factors.

2. Funding Availability for the FY 2014 Funding Round: Funds for the FY 2014 Funding Round have not yet been appropriated; if Congress does not appropriate funds for the NACA Program, there will not be a FY 2014 Funding Round. If funds are appropriated, the amount of such funds may be greater or less than the amounts set forth above. CDFIs that quality for the Native American CDFI Assistance (NACA) Program are encouraged to apply for CDFI Program funds in case no funds are appropriated for the NACA Program.

All awards made through this NOFA must be used to support the Applicant's activities. Awards cannot be used to support the activities of, or otherwise be passed through, transferred, or co-awarded to, third-party entities, whether Affiliates, Subsidiaries, or others with the exception for Sponsoring Entitles that can use TA funds to create a separate legal entity and then transfer the TA funds to help the entity become a Certified CDFI serving a Native Community. The entity that is to carry out the responsibilities of the award and deploy the award funds (the Awardee) must be the entity that applies for the award. In the case where a CDFI bank-holding company Applicant intends to deploy its FA award through its 100 percent wholly-owned CDFI subsidiary bank, the Application must be made at the CDFI bank-holding company level and reflect consolidated activities and financial performance. Authorized representatives of both the holding company and the bank must certify that the information included in the Application represents that of the CDFI bank and that the award funds will be used to capitalize the CDFI bank for the activities outlined in the Application.

B. Types of Awards: An Applicant may submit an Application for a FA award or a TA grant, but not both. For purposes of this NOFA, “FA awards” include awards made using NACA Program FA funds and awards made using HFFI-FA funds.

1. FA Awards: FA awards provide flexible financial support to CDFIs so they may execute the organizational goals outlined in their Applications. FA awards can be used in the following five categories: (i) Financial Products; (ii) Financial Services; (iii) Development Services; (iv) Loan Loss Reserves; and (v) Capital Reserves, and can include up to 15 percent of the total award in Administrative Funds to carry out the eligible uses. For purposes of this NOFA, the five categories mean:

Table 1—Five Categories of FA
(i) Financial Products | Loans, grants, equity investments, and similar financing activities, including the purchase of loans that the Applicant originates and the provision of loan guarantees, in the Applicant's Target Market, or for related purposes that the CDFI Fund deems appropriate.
(ii) Financial Services | Checking and savings accounts, certified checks, automated teller machines services, deposit taking, remittances, safe deposit box services, and other similar services.
(iii) Development Services | Activities that promote community development and help the Applicant provide its Financial Products and Financial Services, including financial or credit counseling, housing and homeownership counseling (pre- and post-), self-employment technical assistance, entrepreneurship training, and financial management skill-building.
(iv) Loan Loss Reserves | Funds set aside in the form of cash reserves, or through accounting-based accrual reserves, to cover losses on loans, accounts, and notes receivable made in the Target Market, or for related purposes that the CDFI Fund deems appropriate.
(v) Capital Reserves | Funds set aside as reserves to support the Applicant's ability to leverage other capital, for such purposes as increasing its net assets or serving the financing needs of its Target Market, or for related purposes that the CDFI Fund deems appropriate.

The CDFI Fund may provide FA awards in the form of equity investments (including secondary capital in the case of certain Insured Credit Unions), grants, loans, deposits, credit union shares, or any combination thereof. As described in this NOFA, FA Applicants must meet certain matching funds requirements; the form of the FA Applicant's matching funds will dictate the form of the FA award. The CDFI Fund reserves the right, in its sole discretion, to provide an FA award in an amount other than that which the Applicant requests; however, the award amount will not exceed the Applicant's award request as stated in its Application.

2. TA Grants: (a) The CDFI Fund provides TA in the form of a grant and reserves the right, in its sole discretion, to provide a TA grant for amounts other than which the Applicant requests; however, the TA grant amount will not exceed the Applicant's request as stated in its Application and the applicable budget chart.

(b) TA eligible uses are: (i) Personnel/salary; (ii) personnel/fringe; (iii) professional services; (iv) travel; (v) training; and (vi) equipment. Please see the Application for details on TA uses. TA grants must be used to build the Applicant's capacity. An Applicant that is an Emerging CDFI serving Native Communities and has not received a previous TA award will be rated, among other elements, on its plan to meet the requirements of a Certified CDFI within two years. An Applicant that is an Emerging CDFI serving Native Communities and is a prior TA awardee will be rated, among other elements, on its plan to meet the CDFI certification goal specified in its previous NACA Program Assistance Agreement.

C. Assistance Agreement: All Awardees, prior to receiving award funds, must sign an Assistance Agreement, which contains the award's terms and conditions. For further information, see Section VI.A of this NOFA.

III. Eligibility Information

A. Eligible Applicants

In order to be eligible for a NACA FA award, an Applicant must be a Certified CDFI or Certifiable CDFI that has identified one or more Native Communities as part of its certified Target Market. Furthermore, each NACA FA Applicant must demonstrate that at least 50 percent of its past activities were in one or more Native Communities and describe how it will target its lending/investing activities to one or more Native Communities. All NACA FA Applicants must demonstrate strong Community Partnerships with Native Communities as well.

In order to be eligible for a TA award, an Applicant must be a Certifiable or Emerging CDFI that serves or will serve Native Communities. A Sponsoring Entity is also eligible to apply for a TA grant if it does not have a prior active award from the CDFI Fund or if the certification goal has been satisfied in its prior active award and it is proposing to create another CDFI that will serve one or more Native Communities. The Sponsoring Entity will be expected to create the Emerging CDFI within one year of the Effective Date in its FY 2014 Assistance Agreement with the CDFI Fund and must include the Emerging CDFI as a co-awardee in the Assistance Agreement once it has been legally created. The Sponsoring Entity and the Emerging CDFI will be given four years from the Effective Date in the FY 2014 Assistance Agreement for the Emerging CDFI to become certified. Beginning in FY 2014, an Emerging CDFI will be allowed to receive no more than three TA awards as an uncertified CDFI. For purposes of this NOFA, a Sponsoring Entity is an entity that proposes to create a separate legal entity that will become a Certified CDFI serving a Native Community. Sponsoring Entities include: (a) A Tribe, Tribal entity, Alaska Native Village, Village Corporation, Regional Corporation, Non-Profit Regional Corporation/Association, or Inter-Tribal or Inter-Village organization; or (b) an organization whose primary mission is to serve a Native Community including, but not limited to, an Urban Indian Center, a Tribally Controlled Community College, community development corporation, training or education organization, or Chamber of Commerce and that primarily serves Native Community with “primary” meaning, at least 50 percent of its activities are directed toward the Native Community.

1. Applicant Categories: FA and TA Applicants must meet the criteria listed in the table below.

Table 2—NACA Applicant Eligibility
Applicant category | Applicant eligibility | Applicant may apply for:
FA | 1. A Certified or Certifiable CDFI that has identified at least one or more Native Communities as its Target Market, which can include a Native “Other Targeted Populations” (OTP) Target Market | Up to and including $750,000 in FA funds.
| 2. A Certifiable CDFI must submit a certification application in accordance with the deadlines in this NOFA
| 3. The Applicant must demonstrate that at least 50 percent of its past activities were in Native Communities and describe how it will target its lending/investing activities to one or more Native Communities
| 4. The Applicant must demonstrate strong Community Partnership(s) within the Native Community in its NACA Application
TA | 1. A Certified, Certifiable, or Emerging CDFI that has identified at least one or more Native Community as its Target Market, which can include a Native OTP Target Market. Beginning in FY 2014, an Emerging CDFI will be allowed to receive no more than three TA awards as an uncertified CDFI | Up to $150,000 for capacity building activities.
| 2. A Sponsoring Entity that has not received a prior TA award and can demonstrate the Emerging CDFI will be established within one full fiscal year of the Effective Date in its FY 2014 Assistance Agreement with the CDFI Fund. The Applicant must agree to include the Emerging CDFI as a co-awardee once it has been legally created
| 3. Sponsoring Entities that have received a prior award must have satisfied the certification goal of the prior award and is proposing to create another CDFI that will serve one or more Native Communities

2. CDFI Certification Requirements: For purposes of this NOFA, as defined in the table below, eligible FA Applicants include Certified/Certifiable CDFIs serving Native Communities; eligible TA Applicants include Certified, Certifiable, or Emerging CDFIs serving Native Communities. The table below also includes criteria for using “Other Targeted Populations” as a Target Market for Certification. All Applicants must be certified or recertified as of June 1, 2014 or any date thereafter prior to the announcement of awards; Applicants that are in a cure period to remedy recertification deficiencies as of June 1, 2014 or any date thereafter prior to the announcement of awards will not be eligible for FA awards under this NOFA. Please see the CDFI Fund's Web site for additional information regarding recertification and cure periods at Frequently Asked Questions regarding CDFI Recertification at http://www.cdfifund.gov/docs/2013/certification/Frequently%20Asked%20Questions%20Recert.pdf.

Table 3—Certification Requirements for CDFIs Serving Native Communities
Certified CDFI | An entity that the CDFI Fund has officially notified meets all certification requirements for a CDFI. A Certified Applicant must submit a Certification of Material Events form only if it has experienced a material event. A “material event” is an occurrence that affects an organization's strategic direction, mission, or business operation and, thereby, its status as a Certified CDFI and/or its compliance with the terms and conditions of an Assistance Agreement.
Certifiable CDFI | An entity that has submitted a Certification Application to the CDFI Fund demonstrating that it meets the certification requirements for a CDFI, but for which the CDFI Fund has not yet officially certified the entity. If the CDFI Fund is unable to certify an Applicant and the Applicant is selected for an FA award, the CDFI Fund may, in its sole discretion, terminate the award commitment. The CDFI Fund will not enter into an Assistance Agreement or disburse FA award funds unless and until an Applicant is certified. See Table 6 for the deadline to submit Certification Application.
Emerging CDFI | A non-certified entity that demonstrates to the CDFI Fund that it has an acceptable plan to meet certification requirements by the end of its FY 2016, or another date that the CDFI Fund selects. Emerging CDFIs that have prior awards will be held to the certification date in their prior Assistance Agreements. Emerging CDFIs may only apply for TA grants; they are not eligible to apply for FA awards. Each Emerging CDFI selected to receive a TA grant will be required to become a Certified CDFI by a date specified in the Assistance Agreement.
d) Native Other Targeted Population as Target Market | To define these populations for the purposes of this NOFA, the CDFI Fund uses the following definitions, set forth in the Office of Management and Budget (OMB) Notice, Revisions to the Standards for the Classification of Federal Data on Race and Ethnicity (October 30, 1997), as amended and supplemented:
| (a) American Indian, Native American, or Alaska Native: A person having origins in any of the original peoples of North and South America (including Central America) and who maintains tribal affiliation or community attachment;
| (b) Native Hawaiian (living in Hawaii): A person having origins in any of the original peoples of Hawaii; and

3. Limitation on Awards: An Applicant may receive either an award through this NOFA or an award through the CDFI Program NOFA, but not both. Although eligible Applicant can apply for the NACA Program and the CDFI Program, it will receive only one FY 2014 award. A Sponsoring Entity is only eligible to apply for an award if it does not have an active prior award or the certification goal in its active award's Assistance Agreement has been satisfied. An Emerging CDFI serving a Native Community that has received three prior TA awards is not eligible to receive an additional TA award.

B. Prior Awardees

Prior Awardees should note the following:

1. $5 Million Funding Cap: The CDFI Fund is currently prohibited from obligating more than $5 million in CDFI and NACA Program awards, in the aggregate, to any one organization and its Subsidiaries and Affiliates during any three-year period. In general, the three-year period calculated for the cap extends back three years from the Effective Date of the Assistance Agreement between the Awardee and the CDFI Fund. However, for purposes of this NOFA, because the funding cap was waived for FY 2009, FY 2010, and FY 2011, the CDFI Fund will include awards in the cap calculation that were provided to an Applicant (or its Subsidiaries or Affiliates) beginning with the FY 2012 Funding Round, excluding FY 2012 HFFI-FA awards. The CDFI Fund will assess the $5 million funding cap applicability during the award selection phase.

Please see the following table for other prior Awardee requirements and considerations.

Table 4—Prior Awardee Requirements and Considerations
Prior awardee situation | Requirements and considerations
Failure to Meet Reporting Requirements | The CDFI Fund will not consider an Application submitted by an Applicant that is not current on reporting requirements in a previously executed agreement under any CDFI Fund program as of this NOFA's Application deadline. (Please note that the CDFI Fund's automated systems for receipt of reports submitted electronically typically acknowledge only a report's receipt. Such an acknowledgment does not verify nor otherwise represent that the report received was complete and therefore met reporting requirements.)
Pending Resolution of Noncompliance | The CDFI Fund will consider an Application pending full resolution of any noncompliance issues if the Applicant has: (i) Submitted reports demonstrating noncompliance with a previously executed agreement under any CDFI Fund program, and (ii) the CDFI Fund has yet to make a final determination as to whether the Applicant is in default of its previously executed agreement.
Default Status | The CDFI Fund will not consider an Application submitted by an Applicant that is in default of a previously executed agreement under any CDFI Fund program, at the time of the Application deadline: (i) If the CDFI Fund has made a determination that the Applicant is in default of the agreement and the default is final; (ii) the CDFI Fund has provided written notification of the final default determination to the Applicant; and (iii) the Application deadline is within a period of time specified in the written notification in which a new Application from the Applicant is prohibited.
Undisbursed Award Funds | The CDFI Fund will not consider an Application submitted by an Applicant that has undisbursed funds as defined below, as of the Application deadline. The CDFI Fund will include the combined undisbursed prior awards of the Applicant and its affiliated entities, including those in which the affiliated entity Controls the Applicant, is Controlled by the Applicant, or shares common management officials with the Applicant as the CDFI Fund determines. Undisbursed awards cannot exceed five percent of the total includable awards for the Applicant's Bank Enterprise Award (BEA) Program/CDFI Program/NACA Program awards, as of the Application deadline. (The total “includable” award amount is the total award amount from the relevant CDFI Fund program.) The “undisbursed award funds” calculation does not include award funds for: (i) Which the Awardee has submitted a full and complete disbursement request before the Application deadline; (ii) an award that has been terminated or de-obligated; or (iii) an award that does not have a fully executed agreement; and (iv) the tax credit allocation authority made available through the NMTC Program.
BEA Program Undisbursed Awards Calculations | For the BEA Program, undisbursed funds will include the Applicant's undisbursed awards three to five calendar years prior to the end of the calendar year of the Application deadline. For purposes of this NOFA, therefore, undisbursed awards made in FYs 2008, 2009, and 2010 will be included in the Applicant's undisbursed award amounts if the funds have not been disbursed as of the Application deadline.
NACA/CDFI Program Undisbursed Awards Calculations | Undisbursed funds will be calculated by adding all undisbursed award amounts made to the Applicant two to five calendar years prior to the end of the calendar year of this NOFA. Therefore, undisbursed NACA Program/CDFI Program awards made in FYs 2008, 2009, 2010, and 2011 will be included in the undisbursed calculation as of the Application deadline. The CDFI Fund reserves the right to adjust the award amount based upon the amount of FY 2012 and FY 2013 awards that remain undisbursed.

2. Contact the CDFI Fund: Applicants that are prior Awardees are advised to: (i) Comply with requirements specified in their executed agreements and (ii) contact the CDFI Fund at least 10 business days prior to this NOFA's Application deadline to ensure necessary actions are underway for the disbursement or de-obligation of any prior outstanding award balance(s) as referenced above.

C. Matching Funds

1. Matching Funds Requirements in General: FA Applicants must provide dollar-for-dollar non-Federal matching funds for every FA NACA award dollar. The FY 2014 Continuing Resolution (CR) requires matching funds for Category II/Core FA and HFFI-FA Applicants only. The CR has waived the matching funds requirement for NACA Applicants and matching funds are not required for TA Applicants. If matching funds are not waived, they must be comparable in form and value to the FA award. This means that FA Applicants must show they have matching funds in-hand or firmly committed from non-Federal sources equal to the amount requested from the CDFI Fund. Applicants cannot use matching funds from a prior FA award under the NACA or CDFI Programs or under another federal grant or award program to satisfy the matching funds requirement of this NOFA. If an Applicant seeks to use matching funds from an organization that was a prior Awardee under the NACA or CDFI Programs, the CDFI Fund will deem such funds as Federal funds, unless the funding entity establishes and the CDFI Fund agrees, that such funds do not consist, in whole or in part, of CDFI Program funds or other Federal funds. The CDFI Fund reserves the right to contact the matching funds source to discuss the matching funds and the documentation that the Applicant has provided. The CDFI Fund encourages Applicants to review the Regulations at 12 C.F.R. § 1805.500 et seq. and matching funds guidance materials on the CDFI Fund's Web site for further information.

2. Matching Funds Deadlines: If matching funds are required after this NOFA is released, the CDFI Fund will give NACA Applicants 30 days to submit the matching funds documentation. The Applicant must demonstrate that it has eligible matching funds in-hand or firmly committed equal to no less than 50 percent of the FA amount being requested on or after January 1, 2012 and on or before the Application deadline. The CDFI Fund reserves the right to rescind all or a portion of an FA award and re-allocate the rescinded award amount to other qualified Applicant(s), if an Applicant fails to obtain in-hand 100 percent of the required matching funds by January 15, 2015 (and submitted to the CDFI Fund no later than January 31, 2015). The CDFI Fund may grant an extension of such matching funds deadline for specific FA Applicants if the CDFI Fund deems it appropriate.

3. Matching Funds Terms Defined; Required Documentation

Table 5—Matching Funds Definitions
Type of matching funds | Definition
Matching funds “in-hand” | The Applicant has actually received disbursement of the matching funds and provides acceptable written documentation, showing the source, form, and amount of the matching funds (i.e., grant, loan, deposit, and equity investment). Applicants must provide copies of the following documentation depending on the type of award being requested: (i) Loans—the loan agreement and promissory note; (ii) grant—the grant letter or agreement for all grants of $50,000 or more; (iii) equity investment—the stock certificate and any related shareholder agreement; (iv) retained earnings audits or call reports from regulating entity. The Applicant must also provide acceptable documentation that demonstrates receipt of the matching funds, such as a copy of a check or a wire transfer statement.
Matching funds “firmly committed” | The Applicant has entered into or received a legally binding commitment from the matching funds source showing the match funds will be disbursed to the Applicant. The Applicant must also provide acceptable written documentation showing the source, form, and amount of the firm commitment (and, in the case of a loan, the terms thereof), as well as the anticipated disbursement date of the committed funds.

4. Matching Loan Requests: The CDFI Fund will match eligible loans provided as non-federal matching funds with a standard loan product. For purposes of this NOFA, the standard loan product will be a 13-year loan with semi-annual interest-only payments due in years one through ten, and fully amortizing payments due each year in years eleven through thirteen. The interest rate will be fixed for the term of the note at 1.95 percent, which is based on the U.S. Department of the Treasury's 10-year Treasury note. In order for a loan to qualify to be matched by the standard loan product, the loan must have a minimum of a three-year term. Any loan presented as matching funds with less than a three-year term will not qualify as eligible match.

5. Ineligible Matching Funds: If the CDFI Fund determines that any portion of the Applicant's matching funds is ineligible, the CDFI Fund, in its sole discretion, may permit the Applicant to offer alternative matching funds as a substitute for the ineligible matching funds. In such instances: (i) The Applicant must provide acceptable alternative matching funds documentation within a written specified period of time, no less than two business days, and (ii) the alternative matching funds documentation will not increase the total amount of FA the Applicant requested.

6. Retained Earnings: The Regulations allow an Applicant to use retained earnings to serve as matching funds for a FA award. The CDFI Fund will calculate retained earnings eligible to be used as matching funds in an amount equal to: (i) The increase in retained earnings that has occurred over the Applicant's most recent fiscal year, adjusted to remove revenue and expenses derived from federal sources and matching funds previously used for an award; or (ii) the annual average of such increases that has occurred over the Applicant's three most recent fiscal years, adjusted to remove revenue and expenses derived from federal sources and matching funds previously used for an award.

7. Special Rule for Insured Credit Unions: The Regulations allow an Insured Credit Union to use retained earnings to serve as matching funds for a FA award. The CDFI Fund will calculate retained earnings for Insured Credit Unions in an amount equal to: (i) The increase in retained earnings that occurred over the Applicant's most recent fiscal year, adjusted to remove revenue from federal sources and matching funds previously used for an award; (ii) the annual average of such increases that has occurred over the Applicant's three most recent fiscal years, adjusted to remove revenue from federal sources and matching funds previously used for an award; or (iii) the entire retained earnings that have been accumulated since the inception of the Applicant, as provided in the Regulations. For purposes of this NOFA, if option (iii) is used, the Applicant must increase its member and/or non-member shares and/or total loans outstanding by an amount equal to the amount of retained earnings committed as matching funds. This increase will be measured from June 30, 2014 and must occur by the end of the Awardee's first performance period, as set forth in its Assistance Agreement, and will be based on amounts reported in the Applicant's National Credit Union Administration (NCUA) Form 5300 call report. The CDFI Fund will assess the likelihood of this increase during the Application review process. An award will not be made to any Applicant that has not demonstrated in the relevant financial statements or NCUA call report that it has increased shares and/or loans by at least 25 percent of the requested FA award amount between December 31, 2012, and December 31, 2013. The match will not be considered in-hand until the Awardee has increased its member and/or non-member shares or total loans outstanding within the time period specified.

IV. Application and Submission Information

A. Application Submission: Applicants must submit Applications electronically through Grants.gov. The CDFI Fund will not accept Applications through myCDFIFund accounts nor will Applications be accepted via email, mail, facsimile, or other forms of communication, except in circumstances approved by the CDFI Fund beforehand. If Applicants submit multiple Applications, the CDFI Fund will only review the last Application submitted; all other Applications will be considered ineligible.

B. Grants.gov: In compliance with Public Law 106-107 and Section 5(a) of the Federal Financial Assistance Management Improvement Act, the CDFI Fund is required to accept Applications submitted through the Grants.gov electronic system. The CDFI Fund strongly recommends Applicants start the registration process as soon as possible and visit www.grants.gov immediately. Applicants that have used Grants.gov in the past must verify that their registration is current and active. New Applicants must properly register, which may take several weeks to complete. Pursuant to OMB guidance (68 Federal Register 38402), each Applicant must provide, as part of its Application submission, a Dun and Bradstreet Universal Numbering System (DUNS) number. In addition, each Application must include a valid and current Employer Identification Number (EIN). An electronic Application that does not include a DUNS number and an EIN is incomplete and may not be transmitted to the CDFI Fund from Grants.gov. As a result, Applicants without a DUNS number and EIN should allow sufficient time for the Internal Revenue Service (IRS) and/or Dun and Bradstreet to respond to inquiries and/or requests for identification numbers.

The CDFI Fund will not consider Applicants that fail to properly register in Grants.gov or to confirm they are properly registered and as a result, are unable to submit their Applications before the deadline. Applicants are reminded that the CDFI Fund does not maintain the Grants.gov registration or submittal process so Applicants must contact Grants.gov directly for issues related to that aspect of the Application submission process. Please see the following link for information on getting started on Grants.gov: http://grants.gov/applicants/organization_registration.jsp.

C. System for Award Management (SAM): Any entity applying for federal grants or other forms of federal financial assistance through Grants.gov, must be registered in SAM. Applicants must verify that their registration is current and active in SAM. New Applicants must properly register and wait for the account to be activated, which does not occur simultaneously and may take weeks to complete for Applicants that have an EIN. If an Applicant does not have an EIN, the Applicant should allow several weeks for obtaining the information from the IRS when requesting the EIN via phone, fax, mail or Internet. The CDFI Fund will not consider Applicants that fail to properly register or activate their account in SAM and as a result, are unable to submit their Applications before the deadline. The CDFI Fund does not maintain the SAM registration process, so Applicants must contact SAM directly for issues related to registration. The CDFI Fund strongly encourages Applicants to ensure that their SAM registration is updated and that their accounts are active. For information regarding SAM, please visit https://www.sam.gov/portal/public/SAM/.

D. myCDFIFund Accounts: MyCDFIFund is the CDFI Fund's primary means of communication with Applicants. Each Applicant is responsible for ensuring its myCDFIFund account is up-to-date at all times. Each Applicant must register as an organization and as a user with myCDFIFund before the Application deadline. An Applicant that fails to properly register and update its myCDFIFund account may miss important communication with the CDFI Fund that could impact its Application. For more information on myCDFIFund, please see the “Frequently Asked Questions” link posted at https://www.cdfifund.gov/myCDFI/Help/Help.asp.

E. Application Content Requirements: The Application and related documents can be found on the Grants.gov and the CDFI Fund's Web sites. The CDFI Fund anticipates posting the Application and related documents to the CDFI Fund's Web site on the same day that the NOFA is released or shortly thereafter. Once an Application is submitted to Grants.gov, the Applicant will not be allowed to change any element of the Application. The CDFI Fund, however, may contact the Applicant to clarify or confirm Application information.

F. Paperwork Reduction Act: Under the Paperwork Reduction Act (44 U.S.C. chapter 35), an agency may not conduct or sponsor a collection of information, and an individual is not required to respond to a collection of information, unless it displays a valid OMB control number. Pursuant to the Paperwork Reduction Act, the CDFI Program funding Application has been assigned the following control number: #1559-0021.

G. Application Deadlines:

1. Please see the following table for critical deadlines that are relevant to the FY 2014 Funding Round.

Table 6—FY 2014 Funding Round Application Critical Dates
Description | Date due | Time (ET)
Last day to contact Program staff | December 18, 2013 | 5:00 p.m.
NACA Program Application for Assistance | December 23, 2013 | 11:59 p.m.
Certification Applications | November 22, 2013 | 5:00 p.m.
Certification of Material Events Form—only for Applicants that have had a Material Event | November 22, 2013 | 5:00 p.m.

2. Late Delivery: The CDFI Fund will not accept an Application or any portion of an Application delivered after the Application deadline. Applicants are responsible for submitting their Applications on time through Grants.gov. The CDFI Fund will not grant exceptions or waivers. Any Application that is deemed ineligible or rejected will not be returned to the Applicant.

H. Intergovernmental Review: Not applicable.

I. Funding Restrictions: For allowable uses of FA proceeds, please see the Regulations at 12 CFR 1805.301.

V. Application Review Information

A. Format: Applicants must complete, and the CDFI Fund will only accept, the Application as provided in Grants.gov and the CDFI Fund's Web site. The FY 2014 Application is a compilation of multiple mandatory documents including: (1) a PDF fillable Applicant intake form; (2) a Microsoft Excel Workbook; (3) a Microsoft Word Narrative template; and (4) other mandatory attachments. (Applicants must use the Microsoft Word Narrative template the CDFI Fund provides; alternative templates/formats will not be scored.) Applicants should not submit information that has not been specifically requested in this NOFA or the Application.

B. Review and Selection Process

1. Eligibility and Completeness Review: The CDFI Fund will review each Application to determine whether it is complete and the Applicant meets the eligibility requirements described in Section III of this NOFA. An incomplete Application or one that does not meet eligibility requirements will be rejected.

2. Substantive Review: If the Applicant has submitted a complete and eligible Application, the CDFI Fund will conduct a substantive review in accordance with the criteria and procedures described in the Regulations, this NOFA, and the Application guidance. The CDFI Fund reserves the right to contact the Applicant by telephone, email, or mail for the sole purpose of clarifying or confirming Application information. If contacted, the Applicant must respond within the CDFI Fund's time parameters or run the risk of its Application being rejected.

3. Application Scoring and Award Selection (FA and TA Applicants): (a) Application Scoring: The CDFI Fund will evaluate each Application on the criteria categories and the scoring scale described in the Application. An Applicant must receive a minimum aggregate score in order to be considered for an award. The CDFI Fund will score each part as indicated in the following table:

Table 7—Application Scoring Criteria
Comprehensive Business Plan sections | FA applicants | TA applicants
Executive Summary | Not Scored | Not Scored.
Purpose/Proposal | 10 points | 15 points.
Products | 10 points | 10 points.
Policies | 10 points | 10 points.
People | 10 points | 15 points.
Partnerships | 10 points | 5 points.
Performance | 40 points | 30 points.
Projections | 10 points | 15 points.
Total Point | 100 points | 100 points.

Applicants whose activities are part of a broader neighborhood revitalization strategy and/or that target marginalized or isolated populations will be scored more favorably in the section of the Application pertaining to Partnerships.

(b) Evaluating Prior Award Performance: The CDFI Fund will deduct points, in accordance with the following table, from Applicants who have received prior assistance under any CDFI Fund program:

Table 10—Point Deductions
Issues | Descriptions
Failure to Meet Agreement Requirements | The CDFI Fund will deduct points from Applicants who have not met requirements in previously executed agreements under any CDFI Fund program including compliance reports due during the previous 24 months prior to the Application deadline date.
Failure to Provide Timely Loan Payments | The CDFI Fund will deduct points from Applicants who have failed to submit timely loan payments to the CDFI Fund within the 24 months prior to the Application deadline (if applicable).
Incurred De-obligations | The CDFI Fund will deduct points from Applicants if funds were de-obligated for FA awards issued in FY 2010, 2011 or 2012 and if the de-obligation occurred within the 12 months prior to the Application deadline. Point deductions in this funding round for a de-obligation of a prior award will not be counted against future FA Applications.
Determination of Discrimination | The CDFI Fund will deduct points from Applicants if proceedings have been instituted against them in, by, or before any court, governmental agency, or administrative body and a final determination within the last three years indicates the Applicant has discriminated on the basis of race, color, national origin, disability, age, marital status, receipt of income from public assistance, religion, or sex.

(c) Award Selection: The CDFI Fund will make its final award selections based on the Applicants' scores, ranked from highest to lowest, and the amount of funds available. In the case of tied scores, Applicants will be ranked first according to each Performance score; then the Purpose score. TA Applicants and FA Applicants will be grouped and ranked separately. In addition, the CDFI Fund may consider the institutional and geographic diversity of Applicants when making its funding decisions.

4. Insured CDFIs: In the case of Insured Depository Institutions and Insured Credit Unions, the CDFI Fund will consider information provided by, and views of, the Appropriate Federal Banking Agencies. If the Applicant is a CDFI bank holding company, the CDFI Fund will consider information provided by the Appropriate Federal Banking Agencies of the CDFI bank holding company and the CDFI bank that will implement the award. Throughout the award review process, the CDFI Fund will consult with the Appropriate Federal Banking Agency about the Applicant's financial safety and soundness. If the Appropriate Federal Banking Agency identifies safety and soundness concerns, the CDFI Fund will assess whether the concerns cause or will cause the Applicant to be incapable of undertaking the activities for which funding has been requested. If it is determined the Applicant is incapable of meeting its obligations, the CDFI Fund reserves the right to withdraw the award decision. The CDFI Fund also reserves the right to require Insured CDFI Applicants to improve safety and soundness conditions prior to receiving an award disbursement. In addition, the CDFI Fund will take into consideration Community Reinvestment Act assessments of Insured Depository Institutions and/or their Affiliates.

5. Award Notification: Each Applicant will be informed of the CDFI Fund's award decision through a notification in the Applicant's myCDFIFund account. This includes notification to Applicants that have not been selected for an award if the decision is based on reasons other than completeness or eligibility. Applicants that have not been selected for an award will receive a debriefing notice in their myCDFIFund account.

6. Application Rejection: The CDFI Fund reserves the right to reject an Application if information (including administrative errors) comes to the CDFI Fund's attention that either adversely affects an Applicant's eligibility for an award; adversely affects the Awardee's certification as a CDFI (to the extent that the Award is conditional upon CDFI certification); adversely affects the CDFI Fund's evaluation or scoring of an Application; or indicates fraud or mismanagement on the Applicant's part. If the CDFI Fund determines any portion of the Application is incorrect in a material respect, it reserves the right, in its sole discretion, to reject it. The CDFI Fund reserves the right to change its eligibility and evaluation criteria and procedures, if the CDFI Fund deems it appropriate. If the changes materially affect the CDFI Fund's award decisions, it will provide information about the changes through its Web site. The CDFI Fund's award decisions are final and there is no right to appeal the decisions.

VI. Award Administration Information

A. Assistance Agreement: Each Applicant selected to receive an award must enter into an Assistance Agreement with the CDFI Fund in order to receive a disbursement(s). The Assistance Agreement will set forth the award's terms and conditions, including but not limited to the award: (i) Amount; (ii) type; (iii) uses; (iv) targeted market or activities; (v) performance goals and measures; and (vi) reporting requirements. FA Assistance Agreements will usually have three-year performance periods; TA Assistance Agreements will usually have two-year performance periods. All FA and TA Awardees that are not Insured CDFIs will be required to provide the CDFI Fund with a certificate of good standing from the secretary of state for the Awardee's state of incorporation. This certificate can often be acquired online on the secretary of state Web site for the Awardee's state of incorporation and must generally be dated within 270 days from the date the Awardee executes the Assistance Agreement. Due to potential backlogs in state government offices, Applicants are advised to submit requests for certificates of good standing at the time that they submit their Applications.

If prior to entering into an Assistance Agreement, information (including administrative error) comes to the CDFI Fund's attention that adversely affects the Awardee's: (i) Eligibility for an award; (ii) certification as a CDFI (to the extent that the Award is conditional upon CDFI certification); or (iii) Application evaluation as conducted by the CDFI Fund; or (iv) indicates fraud or mismanagement on the Awardee's part, the CDFI Fund may, in its discretion and without advance notice to the Awardee, terminate the award or take such other actions as it deems appropriate. The CDFI Fund reserves the right, in its sole discretion, to rescind an award if the Awardee fails to return the Assistance Agreement, signed by the authorized representative of the Awardee, and/or provide the CDFI Fund with any other requested documentation, within the CDFI Fund's deadlines.

In addition, the CDFI Fund, reserves the right in its sole discretion, to terminate and rescind the Assistance Agreement and the award made under this NOFA pending the criteria described in the following table:

Table 11—Requirements Prior Executing an Assistance Agreement
Requirement | Criteria
Failure to Meet Reporting Requirements | If an Awardee has received prior assistance under any CDFI Fund program and is not current with the reporting requirements in the previously executed agreement(s), the CDFI Fund can delay entering into an Assistance Agreement until reporting requirements are met. If such an Awardee is unable to meet the requirement within the timeframe specified, the CDFI Fund may terminate and rescind the Assistance Agreement and the award made under this NOFA. (Please note that the automated systems the CDFI Fund uses for receipt of reports submitted electronically typically acknowledges only a report's receipt; such an acknowledgment does not warrant that the report received was complete and therefore met reporting requirements.)
Failure to Maintain Certification | If an Awardee had applied for an award as a Certified CDFI and the certified status is an ongoing obligation of the award but the Awardee has failed to preserve and keep in full force and effect its certification as a CDFI, the CDFI Fund may terminate and rescind the Assistance Agreement and the award made under this NOFA.
Pending Resolution of Noncompliance | If an Awardee has received prior assistance under any CDFI Fund program and if: (i) It has submitted reports to the CDFI Fund that demonstrate noncompliance with a previously executed agreement with the CDFI Fund; and (ii) the CDFI Fund has yet to make a final determination as to whether the Awardee is in default of its agreement, the CDFI Fund can delay entering into an Assistance Agreement, pending full resolution of the noncompliance issue to the CDFI Fund's satisfaction. If the Awardee is unable to satisfactorily resolve the compliance issues, the CDFI Fund may terminate and rescind the Assistance Agreement and the award made under this NOFA.
Default Status | If, at any time prior to entering into an Assistance Agreement, the CDFI Fund determines that an Awardee is in default of a previously executed agreement with the CDFI Fund and the Awardee has been provided written notification of such determination, the CDFI Fund can delay entering into an Assistance Agreement, until the Awardee has cured the default by taking actions the CDFI Fund has specified within the specified timeframe. If the Awardee is unable to meet this requirement and the CDFI Fund has not specified in writing that the Awardee is otherwise eligible to receive an award under this NOFA, the CDFI Fund may terminate and rescind the Assistance Agreement and the award made under this NOFA.
Final Default and Sanctions | If prior to entering into an Assistance Agreement under this NOFA, the CDFI Fund has: (i) Made a determination that an Awardee was in final default of an executed agreement with the CDFI Fund; and (ii) provided written notification of such final default determination to the Awardee; and (iii) the anticipated date for entering into the Assistance Agreement under this NOFA is within a period of time specified in such notification in which any new assistance is prohibited, the CDFI Fund may terminate and rescind the Assistance Agreement and the award made under this NOFA.
Compliance with Federal Anti-Discrimination Laws | If prior to entering into an Assistance Agreement under this NOFA, the Awardee receives a final determination, made within the last three years, in any proceeding instituted against the Awardee in, by, or before any court, governmental, or administrative body or agency, declaring that the Awardee has discriminated on the basis of race, color, national origin, disability, age, marital status, receipt of income from public assistance, religion, or sex, the CDFI Fund may terminate and rescind the Assistance Agreement and the award made under this NOFA.

B. Reporting: 1. Reporting requirements: At least on an annual basis, the CDFI Fund will collect information from each Awardee including, but not limited to, an Annual Report with the following components: (i) Financial Reports, (ii) OMB A-133 audit; (iii) A-133 Narrative Report; (iv) Institution Level Report; (v) Transaction Level Report (for Awardees receiving FA awards); (vi) Financial Status Report SF-425 (for Awardees receiving TA grants); (vii) Uses of Financial Assistance (for Awardees receiving FA awards); (viii) Uses of Technical Assistance (for Awardees receiving TA grants); (ix) Explanation of Noncompliance (as applicable); and (x) such other information as the CDFI Fund may require. Each Awardee is responsible for the timely and complete submission of the Annual Report, even if all or a portion of the documents is actually completed by another entity or signatory to the Assistance Agreement. If such other entities or signatories are required to provide Institution Level Reports, Transaction Level Reports, Financial Reports, or other documentation that the CDFI Fund may require, the Awardee is responsible for ensuring that the information submitted is timely and complete. The CDFI Fund reserves the right to contact such additional entities or signatories to the Assistance Agreement and require that additional information and documentation be provided. The CDFI Fund will use such information to monitor each Awardee's compliance with the requirements in the Assistance Agreement and to assess the impact of the CDFI Program. All reports with the exception of the Institution Level Report and the Transaction Level Report must be electronically submitted directly to the CDFI Fund via the Awardee's myCDFIFund account. The Institution Level Report and the Transaction Level Report must be submitted through the CDFI Fund's web-based data collection system, the Community Investment Impact System—or CIIS, accessed through the Awardee's myCDFIFund account. The CDFI Fund reserves the right, in its sole discretion, to modify these reporting requirements if it determines it to be appropriate and necessary; however, such reporting requirements will be modified only after notice to Awardees.

2. Accounting: The CDFI Fund will require the Awardee to account for and track the use of its award. This means that Awardees must track every dollar and must inform the CDFI Fund of its uses. This will require Awardees to establish separate administrative and accounting controls, subject to the applicable OMB Circulars. The CDFI Fund will provide guidance on the format and content of the annual information to be provided, outlining and describing how the funds were used. All Awardees are responsible for ensuring their banking account information is updated and accurate in the System for Award Management (SAM) as directed in this NOFA's Section IV. C.

VII. Agency Contacts

A. The CDFI Fund will respond to questions concerning this NOFA and the Application between the hours of 9:00 a.m. and 5:00 p.m. Eastern Time, starting on the date that the NOFA is published through three business days prior to the Application deadline. During the two business days prior to the Application deadline, the CDFI Fund will not respond to questions for Applicants until after the Application deadline. Applications and other information regarding the CDFI Fund and its programs may be obtained from the CDFI Fund's Web site at http://www.cdfifund.gov. The CDFI Fund will post on its Web site responses to questions of general applicability regarding the NACA Program.

B. Applicants may contact the CDFI Fund as follows:

Table 8—Contact Information
[Fax number for all offices: 202-453-2466]
Type of question | Telephone number (not toll free) | Email addresses
NACA Program | 202-653-0421, option 1 | cdfihelp@cdfi.treas.gov.
Certification, Compliance Monitoring, and Evaluation | 202-653-0423 | ccme@cdfi.treas.gov.
MyCDFIFund—IT Help Desk | 202-653-0300 | IThelpdesk@cdfi.treas.gov.

C. Information Technology Support: People who have visual or mobility impairments that prevent them from creating a Target Market map using the CDFI Fund's Web site should call (202) 653-0300 for assistance (this is not a toll free number).

D. Communication with the CDFI Fund: The CDFI Fund will use contact information in myCDFIFund to communicate with Applicants and Awardees. It is imperative; therefore, that Applicants, Awardees, Subsidiaries, Affiliates, and signatories maintain accurate contact information in their accounts. This includes information like contact names, especially for the authorized representative; email addresses; fax and phone numbers; and office locations. For more information about myCDFIFund, as well as information on the Community Investment Impact System, please see the following Web site: http://www.cdfifund.gov/what_we_do/ciis.asp.

VIII. Information Sessions and Outreach

The CDFI Fund may conduct webinars or host information sessions for organizations that are considering applying to, or are interested in learning about, the CDFI Fund's programs. For further information, please visit the CDFI Fund's Web site at http://www.cdfifund.gov.

Authority: 12 U.S.C. 4701, et seq; 12 CFR parts 1805 and 1815.

Dated: October 23, 2013.
Donna J. Gambrell,
Director, Community Development Financial Institutions Fund.

[FR Doc. 2013-25949 Filed 10-30-13; 8:45 am]

BILLING CODE 4810-70-P